DEPARTMENT OF EDUCATION

[CFDA No. 84.342]

Preparing Tomorrow's Teachers To Use Technology

Office of Postsecondary Education, Department of Education Notice of requirements and invitation for applications for new awards for fiscal year (FY) 2001.

Purpose of Program: The Preparing Tomorrow's Teachers to Use Technology program provides grants to consortia that are helping future teachers become proficient in the use of modern learning technologies. This program addresses looming teacher shortages by developing well-qualified, technology-proficient teachers, who are prepared to teach in 21st century schools. This program provides support for two types of grants: implementation grants and catalyst grants.

Eligible Applicants: Only consortia may receive grants under this program. A consortium must include at least two members. Consortium members may include institutions of higher education (IHEs), schools of education, State educational agencies (SEAs), local educational agencies (LEAs), private schools, professional associations, foundations, museums, libraries, for profit agencies and organizations, nonprofit organizations, community-based organizations, and others.

Note: In each consortium a participating nonprofit member must be designated as the “applicant” for purposes of 34 CFR 75.128 and must act as the fiscal agent.

Applications Available: December 15, 2000.

Deadline for Receipt of Applications: February 22, 2001.

Note: All application materials must be received on or before the deadline date. Pursuant to 34 CFR 614.8 an application for a grant under this program must be received by the deadline date announced in this notice.

Deadline for Intergovernmental Review: May 8, 2001.

Estimated Available Funds: $31,750,000. The actual level of funding, if any, depends on final congressional action. However, we are inviting applications to allow enough time to complete the grant process before the end of the fiscal year, if Congress appropriates funds for this program.

Estimated Range of Awards: $200,000-$500,000 for implementation grants, and $500,000-$700,000 for catalyst grants.

Estimated Average Size of Awards: $350,000 for implementation grants, and $600,000 for catalyst grants.

Estimated Number of Awards: 65 implementation grants, and 15 catalyst grants.

Project Period: 36 months for implementation grants, and 36 months for catalyst grants.

Note: The Department is not bound by any estimates in this notice.

Applicable Regulations: (a) The Education Department General Administrative Regulations (EDGAR) in 34 CFR parts 74, 75 (except for 75.102), 77, 79, 81, 82, 85, 86, 97, 98, and 99; (b) The regulation for this program is 34 CFR part 614. The selection criteria and factors to be used for this competition will be provided in the application package.

Application Review Procedures: The Secretary announces the use of a multi-tier review process to evaluate all applications submitted for new awards under the FY 2001 Preparing Tomorrow's Teachers to Use Technology program. The Secretary takes this action to ensure a thorough review and assessment of the large number of applications that are expected to be received under the FY 2001 competition. This multi-tier review process does not affect the contents of applications in this competition.

For Applications Contact: Preparing Tomorrow's Teachers to Use Technology, U.S. Department of Education, 1990 K Street, NW, Suite 6160, Washington DC 20202-5131. Telephone: (202) 502-7788. Fax: (202) 502-7775. Via Internet: http://www.ed.gov/teachtech

If you use a telecommunications device for the deaf (TDD), you may call the Federal Information Relay Service (FIRS) at 1-800-877-8339.

FOR FURTHER INFORMATION CONTACT: Pat Pilkerton, Preparing Tomorrow's Teachers to Use Technology, U.S. Department of Education, 1990 K Street, NW, Suite 6160, Washington DC 20202-5131. Telephone: (202) 502-7788. E-mail: pat_pilkerton@ed.gov

Individuals who use a telecommunications device for the deaf (TDD) may call the Federal Information Relay Service (FIRS) at 1-800-877-8339.

Individuals with disabilities may obtain this document in an alternative format (e.g., Braille, large print, audiotape, or computer diskette) on request to the contact person listed under FOR FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use PDF you must have the Adobe Acrobat Reader, which is available free at either of the previous sites. If you have questions about using PDF, call the U.S. Government Printing Office (GPO), toll free, at 1-888-293-6498; or in Washington, DC, area at (202) 512-1530.

Note: The official version of this document is the document published in the Federal Register. Free Internet access to the official edition of the Federal Register and the Code of Federal Regulations is available on GPO Access at: http://www.access.gpo.gov/nara/index.html

Program Authority: 20 U.S.C. 6832.

Dated: December 11, 2000.
A. Lee Frischler,
Assistant Secretary for Postsecondary Education.

[FR Doc. 00-31973 Filed 12-14-00; 8:45 am]

BILLING CODE 4000-01-U